DEPARTMENT OF THE INTERIOR

National Park Service

[NPS-WASO-NAGPRA-19772; PPWOCRADN0-PCU00RP14.R50000]

Notice of Inventory Completion: History Colorado (Formerly Colorado Historical Society), Denver, CO

AGENCY: National Park Service, Interior.

ACTION: Notice.

SUMMARY: History Colorado has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to History Colorado. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to History Colorado at the address in this notice by February 8, 2016.

ADDRESSES: Sheila Goff, History Colorado, 1200 Broadway, Denver, CO 80203, telephone (303) 866-4531, email sheila.goff@state.co.us.

SUPPLEMENTARY INFORMATION: Notice is here given in accordance with the Native American Graves Protection and Repatriation Act (NAGPRA), 25 U.S.C. 3003, of the completion of an inventory of human remains under the control of History Colorado, Denver, CO. The human remains were removed from San Miguel Island, Channel Islands in Santa Barbara County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by History Colorado professional staff in consultation with representatives of the Santa Ynez Band of Chumash Mission Indians of the Santa Ynez Reservation, California.

History and Description of the Remains

In 1913, human remains representing, at minimum, one individual were removed from San Miguel Island, Channel Islands, in Santa Barbara County, CA. Museum documentation does not list a specific site from which the human remains were removed. They were anonymously donated to the museum in 1930. No known individuals were identified. No associated funerary objects are present.

Osteological analysis conducted at the Metropolitan State University Human Identification Laboratory concludes that the remains are of an adult female of Native American ancestry. Archaeological evidence and oral history indicate San Miguel Island is traditional territory of the Santa Ynez Band of Chumash Mission Indians of the Santa Ynez Reservation, California. Historical and archaeological findings support the continuous occupation of the island by the Chumash dating back several thousand years, and their relocation to the mainland to Spanish missions by 19th century. In 1855, the Santa Ynez Reservation was created for the Chumash and the Santa Ynez Band of Chumash was federally recognized in 1901.

Determinations Made by History Colorado

Officials of History Colorado have determined that:

• Pursuant to 25 U.S.C. 3001(9), the human remains described in this notice represent the physical remains of one individual of Native American ancestry.

• Pursuant to 25 U.S.C. 3001(2), there is a relationship of shared group identity that can be reasonably traced between the Native American human remains and the Santa Ynez Band of Chumash Mission Indians of the Santa Ynez Reservation, California.

Additional Requestors and Disposition

Lineal descendants or representatives of any Indian tribe or Native Hawaiian organization not identified in this notice that wish to request transfer of control of these human remains should submit a written request with information in support of the request to Sheila Goff, History Colorado, 1200 Broadway, Denver, CO 80203, (303) 866-4531, email sheila.goff@state.co.us by February 8, 2016. After that date, if no additional requestors have come forward, transfer of control of the human remains to may proceed.

History Colorado is responsible for notifying the Santa Ynez Band of Chumash Mission Indians of the Santa Ynez Reservation, California that this notice has been published.

Dated: November 12, 2015.
Melanie O'Brien,
Manager, National NAGPRA Program.

[FR Doc. 2016-00070 Filed 1-6-16; 8:45 am]

BILLING CODE 4312-50-P